DEPARTMENT OF LABOR

Employment and Training Administration

[TA-W-81,372; TA-W-81,372A; TA-W-81,372B]

Simpson Lumber Company, LLC, Shelton, Washington; Simpson Lumber Company, LLC, Tacoma, Washington; Simpson Lumber Company, LLC, Longview, Washington; Notice of Revised Determination on Reconsideration

On May 9, 2012, the Department of Labor issued an Affirmative Determination Regarding Application for Reconsideration for the workers and former workers of Simpson Lumber Company, LLC, Shelton, Washington (TA-W-81,372), Simpson Lumber Company, LLC, Tacoma, Washington (TA-W-81,372A), and Simpson Lumber Company, LLC, Longview, Washington (TA-W-81,372B) (hereafter referred to collectively as “the subject firm” or “Simpson Lumber Company”). The workers are engaged in activities related to the production of dimension lumber, primarily used in housing construction, remodel, and repair. The worker group does not include leased workers.

The reconsideration investigation revealed that customer imports of dimensional lumber (or like or directly competitive articles) during the relevant period contributed importantly to the worker group separations and production declines at each of the afore-mentioned locations of Simpson Lumber Company.

Section 222(a)(1) has been met because a significant number or proportion of the workers in each of the afore-mentioned locations of Simpson Lumber Company have become totally or partially separated, or are threatened to become totally or partially separated.

A significant number or proportion means at least three workers in a firm (or appropriate subdivision thereof) with a work force of fewer than fifty workers or at least five percent of the workers in a firm (or appropriate subdivision thereof) with a work force of fifty or more workers. 29 CFR 90.2

Section 222(a)(2)(A)(i) has been met because production of dimension lumber at each of the afore-mentioned locations of Simpson Lumber Company has decreased absolutely during the period under investigation.

Section 222(a)(2)(A)(ii) has been met because customer imports of articles like or directly competitive with the dimensional lumber produced by Simpson Lumber Company have increased (absolutely or relatively) during the relevant period.

Finally, Section 222(a)(2)(A)(iii) has been met because the increased customer imports of articles like or directly competitive with dimensional lumber contributed importantly to the worker group separations and production declines at each of the afore-mentioned locations of Simpson Lumber Company.

Contributed importantly means a cause which is important but not necessarily more important than other cause. 29 CFR 90.16(b)(3)

Conclusion

After careful review of the additional facts obtained during the reconsideration investigation, I determine that workers of Simpson Lumber Company, LLC, Shelton, Washington, Tacoma, Washington and Longview, Washington, engaged in employment related to the production of dimension lumber, meet the worker group certification criteria under Section 222(a) of the Act, 19 U.S.C. 2272(a). In accordance with Section 223 of the Act, 19 U.S.C. 2273, I make the following certification:

All workers of Simpson Lumber Company, LLC, Shelton, Washington (TA-W-81,372), Simpson Lumber Company, LLC, Tacoma, Washington (TA-W-81,372A), and Simpson Lumber Company, LLC, Longview, Washington (TA-W-81,372B), who became totally or partially separated from employment on or after February 21, 2011, through two years from the date of certification, and all workers in the group threatened with total or partial separation from employment on the date of certification through two years from the date of certification, are eligible to apply for adjustment assistance under Chapter 2 of Title II of the Trade Act of 1974, as amended.

Signed at Washington, DC, this 25th day of February, 2013.
Del Min Amy Chen,
Certifying Officer, Office of Trade Adjustment Assistance.

[FR Doc. 2013-05462 Filed 3-7-13; 8:45 am]

BILLING CODE 4510-FN-P